OVERSEAS PRIVATE INVESTMENT CORPORATION

September 20, 2007 Board of Directors Meeting

Time and Date: Thursday, September 20, 2007, 10 a.m. (Open Portion).

Place: Offices of the Corporation, Twelfth Floor Board Room, 1100 New York Avenue, NW., Washington, DC.

Status: Meeting OPEN to the Public from 10 a.m. to 10:15 a.m. Closed portion will commence at 10:15 a.m. (approx.).

Matters To Be Considered:

1. President's Report.

2. Tribute—David A. Sampson.

3. Approval of July 12, 2007 Minutes (Open Portion).

Further matters to be considered: (Closed to the Public 10:15 a.m.)

1. Report from Audit Committee.

2. Proposed FY 2009 Budget.

3. Finance Project—Sub-Saharan Africa.

4. Finance Project—Sub-Saharan Africa.

5. Finance Project—Sub-Saharan Africa.

6. Finance Project—Jordan, Lebanon, Egypt, West Bank and Certain OPIC-Eligible MENA Countries.

7. Finance Project—Mexico.

8. Finance Project—Pakistan.

9. Approval of July 12, 2007 Minutes (Closed Portion).

10. Pending Major Projects.

11. Reports.

For Further Information Contact: Information on the meeting may be obtained from Connie M. Downs at (202) 336-8438.

Dated: September 6, 2007.
Connie M. Downs,
Corporate Secretary, Overseas Private Investment Corporation.

[FR Doc. 07-4424 Filed 9-6-07; 9:46 am]

BILLING CODE 3210-01-M